DEPARTMENT OF COMMERCE

International Trade Administration

Applications for Duty-Free Entry of Scientific Instruments

Pursuant to section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, DC 20230. Applications may be examined between 8:30 A.M. and 5 P.M. in Suite 4100W, U.S. Department of Commerce, Franklin Court Building, 1099 14th Street, NW., Washington, DC.

Docket Number: 02-020. Applicant: Vanderbilt University. 1161 21st Avenue South, Nashville, TN 37232. Instrument: Electron Microscope, Model Tecnai G2 F30 TWIN Helium. Manufacturer: FEI Company, The Netherlands. Intended Use: The instrument is intended to be used to study the three-dimensional structures of biological macromolecules and assemblies, such as viruses and protein complexes. The materials to be studied include adenovirus, a common human respiratory virus; the ribonucleoprotein vault, a cytoplasmic particle implicated in multi-drug resistance in certain cancer cell lines; the DNA-PK protein/DNA complex, which is involved in repair of DNA double-stranded breaks after exposure to ionizing radiation; the family of small heat-shock proteins, which help the cell to resist heat-induced protein aggregation; CAM kinase complexes, which are involved in regulation of synaptic function in the brain; monoamine transporters (serotonin, norepinephrine, and dopamine), which are targets for antidepressants and psychostimulants; transcription complexes isolated from yeast; and other macromolecular protein assemblies involved in DNA transactions. Application accepted by Commissioner of Customs: June 6, 2002.

Docket Number: 02-021. Applicant: The Regents of the University of California, Material Management, 301 Watkins Drive, Riverside, CA 92521. Instrument: Two (2) Confocal Microscopes. Models TCS SP2/UV and TCS SPS RS-2P. Manufacturer: Leica Microsystems, Germany. Intended Use: The instrument is intended to be used to study different kinds of experimental plants, animals and microorganisms, e.g., Arabidopsis leaf cells, mammalian cell lines, and budding yeast. Various fundamental cellular processes, e.g., protein trafficking, organelle dynamics, protein complex formation, signal transduction, gene expression, will be investigated. In addition, the instrument will be used for educational purposes in the following courses: BPSC132, Plant Anatomy; BPSC135, Plant Cell Biology; BPSC237, Plant Cell Biology; BPSC230L, Cytogenetics Laboratory; BPSC232, Plant Development; Biol200A, Cell Biology. Application accepted by Commissioner of Customs: June 6, 2002.

Docket Number: 02-022. Applicant: National Institutes of Health, Office of the Director, Office of Research Services, Division of Bioengineering and Physical Science, 13 South Drive, Room 3N17, Bethesda, MD 20892-5766. Instrument: Electron Microscope, Model Tecnai TF30T. Manufacturer: FEI Company, The Netherlands. Intended Use: The instrument is intended to be used to study proteins, nucleic acids, viruses, bacteria, and eukaryotic cells. The following experiments will be conducted:

(a) Tilt series will be automatically recorded from sections of plastic embedded cells in order to perform three-dimensional tomographic reconstructions of cellular architecture at high-spatial resolution. These measurements will be performed at an accelerating voltage of 300 kV to facilitate analysis of sections that are tilted to high angle.

(b) Tomographic reconstructions will be performed on cryosectioned frozen-hydrated cells to study cellular structure in close to the living state.

(c) Suspensions of supramolecular assemblies will be rapidly frozen, cryotransferred into the electron microscope, and imaged at low electron dose either on film or directly on a cooled CCD camera.

(d) Images will be recorded under well defined electron optical conditions with highly coherent illumination facilitated by the instrument's field-emission source. Images will be processed to determine the three-dimensional structure of the supramolecular assemblies.

(e) To determine the masses of the macromolecules, a finely focused nanometer-diameter probe of electrons will be digitally scanned across a thin specimen on which macromolecules are adsorbed: high-angle elastic scattering will be measured. Application accepted by Commissioner of Customs: June 6, 2002.

Docket Number: 02-023. Applicant: University of California, Los Alamos National Laboratory, BUS-6 Customs Office, P.O. Box 1663, MS C308, Los Alamos, NM 87545. Instrument: Electron Microscope, Model Tecnai G2 F30 TWIN. Manufacturer: FEI Company, The Netherlands. Intended Use: The instrument is intended to be used to investigate biological tissue samples, polymeric materials (including high explosives), polymeric films containing semiconductor quantum dots, steels and other metals (especially Be and U alloys), superconducting tapes on metal substrates, other superconducting materials, ceramic oxides and nitrides, ion beam damaged ceramics, and other materials. Some typical experiments are: (a) To determine which phases are present in a material and their morphology, distribution, and relative fractions; (b) determining material deformation behavior by studying the dislocation, stacking fault, and twin types, densities, and distributions; (c) determining interfacial structures, misfits, chemical reactions (cross-diffusion and new phase formation) at near-atomic resolution; (d) examining ion beam damage to materials through imaging, mapping for chemistry, and diffraction analysis for crystallinity. Application accepted by Commissioner of Customs: June 6, 2002.

Gerald A. Zerdy,
Program Manager, Statutory Import Programs Staff.

[FR Doc. 02-16654 Filed 7-1-02; 8:45 am]

BILLING CODE 3510-DS-P